DEPARTMENT OF HEALTH AND HUMAN SERVICES

Announcement of Availability of Funds for a Cooperative Agreement To Provide Basic Medical Education Supportive of Maternal-Child Health at Kabul Medical University (KMU) and Clinical Training in Obstetrics and Gynecology to Resident Physicians and Refresher Training to Attending Physicians at the Rabia Balkhi Women's Hospital

AGENCY: Department of Health and Human Services, Office of the Secretary, Office of Global Health Affairs.

ACTION: Notice.

SUMMARY: The primary goal of this project is to assist Afghanistan in the development and strengthening of maternal and child health clinics/hospital systems by creating equitable and high quality obstetrical and gynecological and infant care at RBH and developing an evidence-based and culturally appropriate Obstetrical/Gynecological residency program and continuing education program for practicing physicians. Projects requesting funding should aim to expand the capacity of Kabul Medical University to develop and implement curriculum reform in support of evidence-based medical knowledge and practice in maternal-child health at Kabul Medical University and to provide leadership and clinical expertise to strengthen the Obstetric and Gynecology Residency Program; residency training refers to a sustainable training of physicians and specialists in obstetrics and gynecology based on Western accreditation standards that have been modified for the Afghan situation.

Announcement Type: Single Eligibility—FY 2007 Initial Announcement.

GSA Catalog of Federal Domestic Assistance: 93.017.

DATES: Application Availability: August 16, 2007. Optional Letter of Intent must be received by 5 p.m. ET August 23, 2007. Applications must be received by 5 p.m. ET August 31, 2007.

Award date: September 15, 2007.

SUPPLEMENTARY INFORMATION: The Office of Global Health Affairs (OGHA) within the Department of Health and Human Services (HHS) announces that an estimated $625,000 in Fiscal Year (FY) 2007 funds is available for one cooperative agreement to expand the capacity of Kabul Medical University to develop and implement curriculum reform in support of evidence-based medical knowledge and practice in maternal-child health at Kabul Medical University and to provide leadership and clinical expertise to strengthen the Obstetric and Gynecology Residency Program, approved by the Afghanistan Ministry of Public Health (MoPH) and improve health-care delivery at Rabia Balkhi Women's Hospital (RBH) in Kabul, Afghanistan. Residency training refers to a sustainable training of physicians and specialists in obstetrics and gynecology based on Western accreditation standards that have been modified for the Afghan situation. An emphasis will focus on clinical training, which will include the demonstration of direct patient care alongside Afghan health-care providers. All care will also reflect an interdisciplinary approach with full participation of the nurse midwifery staff in the delivery of care.

The primary goal of this project is to assist Afghanistan in the development and strengthening of maternal and child health clinics/hospital systems by creating equitable and high quality obstetrical and gynecological and infant care at RBH and developing an evidence-based and culturally appropriate Obstetrical/Gynecological residency program and continuing education program for practicing physicians. The program will be approved initially for a program period of one year in the amount of $625,000 available (including indirect costs), with continuing awards contemplated for year two and year three. Funding for the cooperative agreement in subsequent years is contingent upon the availability of funds and the satisfactory performance of the grantee.

I. Funding Opportunity Description

Authority: FY 2006 Labor/HHS/Education appropriations act, Pub. L. 109-149. 119 Stat. 2833, 2856 (Dec. 30, 2005), continued by sections 101(a)(5) and 104 of Division B of the FY 2007 Continuing Resolution, Pub. L. 110-5 (Feb. 15, 2007).

Purposes of the Agreement

HHS, in partnership with other relevant U.S. Government Departments and agencies, anticipates involvement in the development, administration and oversight of this program to provide basic medical education and clinical training in Obstetrics and Gynecology to resident physicians and refresher training to attending physicians. The program will be for a program period of one year. Approximately a total of $625,000 will be available for this cooperative agreement.

The primary goal of this project is to assist Afghanistan in the development and strengthening of maternal and child health clinics/hospital systems by creating equitable and high quality obstetrical and gynecological and infant care at RBH and developing an evidence-based and culturally appropriate Obstetrical/Gynecological residency program and continuing education program for practicing physicians.

A secondary goal is to support basic curriculum revision within the medical school in maternal and child health related course work. The award recipient will also conduct a comprehensive evaluation of conditions and elements necessary for the eventual implementation of a culturally appropriate Obstetrical/Gynecological licensing and certification program. The funding under this cooperative agreement will provide essential material resources within budgetary limitations for educational materials and for grant activities related to residency development and leadership.

Alongside this support, HHS/OGHA is currently providing support for staff development and continuing education at RBH. This new agreement is anticipated to focus on the expansion of physician-directed clinical efforts, but could also involve clinical training of teams, including the allied health and nursing personnel but is expected. HHS/OGHA is also currently providing support for hospital management development and facility management. It is expected that collaboration among grantees must occur to effectively provide the didactic and clinical training in a supportive physical environment within the labor law requirements of the Afghanistan MoPH.

Afghanistan has one of the highest maternal mortality rates (MMR) in the world with a rate of 1,600 maternal deaths per 100,000 live births. Preventable complications related to childbirth cause more than 85 percent of deaths among women of childbearing age in Afghanistan. An estimated one in five children dies before reaching their fifth birthday.

The government of Afghanistan has established improvement in women and child health as one of its highest priorities. The recovery from more than twenty years of civil unrest and war is underway but the restoration of the quality of the entire spectrum of health-care delivery, public health and health professional education remains a challenge.

The United States along with other countries, international organizations and nongovernmental organizations (NGOs) have provided assistance in the restoration of essential health services in Afghanistan. Former HHS Secretary Tommy G. Thompson signed a Memorandum of Understanding (MOU) with the MoPH on October 2, 2002, pledging the support of American citizens to help in these efforts. In early 2003, HHS entered into collaboration with the MoPH to improve the maternal-child health services in Afghanistan. Upon the request of Minister Sidiq, HHS's first efforts were directed toward the rehabilitation of RBH and the restoration of health services at RBH.

RBH is the largest full-service women's hospital in Afghanistan. RBH was one of the referral hospitals for women under the Taliban and was declared the only women's hospital in 1997. It is located adjacent to a major bazaar in District 2 of Kabul and consists of a large two-story building and two ancillary buildings within a courtyard. It has a theoretical inpatient capacity of 212 to 250 beds of which 80 to 100 are designated for Gynecology and Obstetrics. Approximately 25 to 30 deliveries occurred each day in 2003 and approximately 7,500 to 11,000 babies were delivered there each year in the first years after the fall of the Taliban. The hospital continues to see approximately 300 to 400 out-patients daily. It is a referral hospital with no formal relations with other maternity departments or pediatric hospitals. Its main partner for sick newborns is Indira Gandhi Children's Hospital (IGCH), also in Kabul.

RBH, as well as most of the health-care hospitals in Afghanistan, continues to struggle with basic facility and human resource challenges that exceed those experienced in most other developing countries. Health-care professionals and support staff at RBH are working to provide quality health-care services in an environment which has been neglected during years of political upheaval and oppression. As a result, basic inpatient and outpatient services necessary to provide timely and accurate assessment and treatment of patients are frequently absent or in need of major improvement.

The latest data from CURE International states that there are 384 employees at RBH of which there are 19 attending physicians, 74 physicians, 56 midwives, 35 nurses and 68 allied health professionals including pharmacists, anesthetists, lab technicians, radiologists and administrative staff. In addition, International Medical Corps (IMC) has 27 trainers. Both CURE data and MoPH data indicate approximately a 1:1 total staff to bed ratio at RBH. In 2006, there were 13,275 live births. From January to March 2007, there were 3,542 births with 370 caesarean sections and 3,172 normal deliveries at RBH. The Maternal Mortality Rate (MMR) for RBH in 2006 was 137 per 100,000 live births.

In April 2003, as a first step, HHS funded a clinical knowledge and skills refresher training program at RBH. The intent of this refresher training has been to update the knowledge and skills of the current RBH attending physicians and other professional staff. HHS provided focused, short-term training to the RBH staff to improve their basic knowledge levels and to update the clinical skills needed to respond to the critical needs of the high-risk patient community accessing care at the facility. Additionally, HHS, through the HHS/Centers for Disease Control and Prevention (CDC), provided expert technical guidance and advisory consultation for the continued development and implementation of a facility-based Health Management Information System (HMIS), Surveillance, Quality Assurance and Hospital Infection Prevention Program (HIPP) at RBH. Simultaneously, the Department of Defense (DOD) provided critical infrastructure improvements to the physical plant.

In 2004, HHS provided funding to continue the RBH training program through a $2.2 million cooperative agreement with the implementing NGO, IMC. Through this cooperative agreement, IMC continues to support the provision of staff development and refresher training for clinical staff, including physicians, nurse-midwives and ancillary health-care workers and to work toward the development of a Residency program for Obstetrics and Gynecology. This agreement will conclude in October 2007.

During 2004 and 2005, many expatriate experts attempted to adapt a standard curriculum used in Obstetrical/Gynecological residency training programs in the United States to the Afghanistan environment. Early on, however, HHS and IMC recognized that it would take some time to assess its relevancy to the situation on the ground. Difficulties in recruiting qualified personnel to run a residency program and differing views on the appropriateness of a western-style program delayed plans for the residency program and IMC's efforts were therefore directed toward continuing education and refresher training A series of committed expatriate staff, working in collaboration with IMC, however, were able to develop of a four-year residency program equivalent to those seen in developing countries This curriculum was formally approved by the MoPH on November 30, 2007. Although the curriculum was approved, the implementation of this contemporary model for a four-year residency program has not occurred as IMC staff and their colleagues at the academic board of MoPH recognized that there were significant gaps in the knowledge and clinical capability of present Afghan practicing obstetrician/gynecologist educators preventing them from assuming responsibility for the teaching and clinical supervision of practice in areas acknowledged as important and essential to the current accepted standards of obstetrics and gynecology practice. Despite numerous attempts, the present grantee has been unable to recruit skilled educators and clinicians to provide the needed expertise to implement the adapted residency program. Most significantly, without the capacity to recruit skilled obstetrical/gynecological clinical educators, the program can not meet its program objectives or provide quality care to the mothers and infants seeking care at RBH.

Though considerable renovation and rehabilitation of the physical plant was completed by 2005, there were still concerns surrounding the environment of care. In 2005, HHS sponsored an evaluative visit to the facility by members of the Interagency Advisory group. Upon their recommendation, a cooperative agreement was awarded in 2005 to CURE International to provide leadership and management development and consultation and facility management. Funding was also allocated to ensure a sufficient supply of materials, equipment and pharmaceuticals at RBH. As part of this effort, substantial work was completed in developing job descriptions and appraisals, which are necessary for the recruitment and retention of qualified staff. In 2006, the MoPH and CURE International signed a Memorandum of Understanding (MOU) for the operation of RBH. This agreement mandated payment of the Priority Reform and Restructure (PRR) salaries of all the staff including the resident staff. Subsequently, CURE implemented policies and procedures governing attendance and disciplinary action for lack of compliance with work responsibilities. Staffing requirements were been modified to ensure continuous coverage 24 hours a day, 7 days a week. Today, a basic environment of care, which can support a quality resident program, is present at RBH.

Recognizing that the obstetrics/gynecology residents, though employed by the MoPH, are primarily products of the Kabul Medical University and that a quality residency program is built upon a strong foundation of medical education, it is essential to encourage collaboration between academia and the practice arena. Kabul Medical University has been engaged in curriculum reform and is modernizing its approach to teaching and learning with the help of many donors from the United States and the international community. The recipient of this cooperative agreement must recognize and embrace the opportunity to support change in both areas. It is expected that the award recipient will be actively engaged in the university to promote excellence in teaching and to ensure a solid foundation in the basic sciences, social sciences, supporting clinical courses and accompanying courses supportive of a professional identity. Finally, efforts to design and implement a system for licensure, certification and accreditation of residency programs at the MoPH should be supported by obtaining expert advice and implemented by developing the capacity within both the MoPH and the Ministry of Higher Education (MOHE) to create the systems to achieve the monitoring and evaluation functions.

The primary role for the award recipient of this cooperative agreement will be to implement and support the continued development of the residency program and improve health-care delivery at RBH, while building the Afghan capacity to assume these functions in the future.

It is anticipated that multiple sources of significant revenue, in addition to this cooperative agreement, will be available for leveraging in accomplishment of the objectives. These sources include existing MoPH operational funds, supplies, and staff, current HHS/CURE funding to ensure a supportive management structure and the provision of necessary equipment, supplies and pharmaceuticals to support quality patient care and, likely additional donations or in-kind contributions from international donors.

This cooperative agreement is not anticipated to involve training of the non-physician clinical staff or training of administrative or executive management staff. The recipient will develop and upon award, implement a formal, mutually agreed-upon one-year work plan. The work plan must contain all of the elements listed below including timelines for completion and designated responsible agents. Measurable goals, objectives, and outcomes are expected to be integrated into the work plan as follows:

• Provide a mission statement, including projected scope of service;

• Develop an annual operational and personnel budget, including a plan to identify, optimize, consolidate and effectively utilize all available funding sources;

• Recruit and maintain qualified expatriate obstetrical/gynecological faculty so that a constant presence is assured to implement and evaluate the residency program;

• Coordinate educational efforts to support the residency training with the presently funded CURE/IMC plan for clinical education and training. Include a discipline-specific needs assessment training plan with objectives using a variety of teaching methodologies, evaluation measures and timelines for competency skills assessment and testing;

• Create a plan for residency training, which may consist of planned exercises, mentoring by international experts and facilitation by peer networking. All efforts must build upon the MoPH-approved training program, complement MoPH efforts and reflect Institute of Health Sciences (IHS) and Kabul Medical School education/training standards.

• Provide a plan for the incorporation of the HHS/CDC-developed Health Management Information System (HMIS), including MoPH patient record-keeping into the practice standards;

• Develop a system for incorporating and implementing evidence-based standards of care and best practices, including an interface with the RBH quality assurance and quality improvement programs;

• Develop a process for internal monitoring and evaluation to include, in collaboration with MoPH/RBH/CURE, output and outcome indicators;

• Establish a system for providing advisement and consultation to Kabul Medical University on curriculum reform;

• Document and assess the current process for faculty development, identifying areas of need and devising sustainable solutions for curriculum reform;

• Develop a system for providing faculty development within the faculty responsible for maternal-child health at Kabul Medical University;

• Assess the climate for instituting a state-of-the-art licensure process and certification system; and,

• Serve as a liaison between the MoPH and MOHE.

The award recipient will be responsible for preparing any sub-recipient request for application (RFA), conducting the RFA announcement and competition process, awarding the grant(s) and monitoring the grant(s) performance.

Finally, the award recipient will monitor and report progress quarterly and annually and conduct a comprehensive evaluation of all required elements and conditions, including outcome measures for effectiveness and efficiency.

II. Award Information

The administrative and funding instrument for this program will be the cooperative agreement, in which HHS will have substantial scientific and/or programmatic involvement during the performance of the project. Under the cooperative agreement, HHS/OGHA will support and/or stimulate award recipient activities by working with the recipient in a non-directive partnership role. HHS staff will be substantially involved in the program activities, above and beyond routine monitoring. Through this cooperative agreement, HHS will collaborate in an advisory capacity with the award recipient, especially during the development and implementation of a mutually agreed-upon work plan. HHS will actively participate in periodic reviews, and in a final evaluation of the program.

HHS/OGHA provides policy and staffing support to the Secretary and other HHS leaders in the area of global health, and provides policy advice, leadership and coordination of international health matters across HHS, including leadership on major crosscutting global health initiatives and the Department's relationships with multilateral organizations.

Approximately up to $625,000 (including indirect costs) is available under the Department of Health and Human Services Revised Continuing Appropriations Resolution, 2007, Division B, Section 101(6), Pub. L. 109-289 (2007) to support this agreement.

The anticipated start date is September 15, 2007. There will only be one single award made from this announcement. The project period for this agreement is for one year for a total of $625,000 with continuation grants contemplated for FY 2008 and FY 2009. Continuation of this project from one 12-month budget period to the next and the level of funding are subject to satisfactory performance, availability of funds, and program priorities.

The award recipient must comply with all HHS management requirements for meeting progress against milestones and for financial reporting for this cooperative agreement. (Please see HHS Activities and Program Evaluation Sections below.)

HHS/OGHA activities for this program are as follows:

• Organize an orientation meeting after the award is made with the award recipient to discuss applicable U.S. Government expectations as stated in this RFA, regulations, policies and key requirements, as well as report formats and contents.

• Review and approve the award recipient's work plan and detailed budget.

• Review and approve the award recipient's monitoring evaluation plan.

• Conference on a monthly basis with the award recipient to assess monthly progress and expenditures in relations to approved work plan, and modify plans, as necessary.

• Meet on an annual basis with the award recipient to review the progress report for each U.S. Government Fiscal Year.

• Assure experienced HHS or other subject-matter experts from other relevant U.S. Government Departments and agencies will participate in the planning, development, implementation and evaluation of all phases of this project.

• Assist in establishing and maintaining U.S. Government, Afghan Government and NGOs contracts and agreements to carry out the program.

Program Evaluation Criteria

The applicant must have a comprehensive evaluation plan consistent with the scope, stated goals and objectives and funding level of the project. The evaluation plan should include both a process evaluation to track the implementation of the project activities and outcome evaluation criteria.

In addition to conducting internal evaluations, the successful applicant must be prepared to participate in external evaluations supported by the Afghan MoPH, MOHE and HHS.

In addition to routine communications with the Afghan MoPH, MOHE and HHS within 30 days following the end of each quarter, the grantee will submit a written quarterly performance and financial status report of no more than ten pages in length to the Ministries and HHS. At a minimum, quarterly performance reports will include the following:

• A concise summary of the most significant achievements and problems encountered during the reporting period, e.g. a comparison of work progress with objectives established for the quarter against the award recipient's implementation schedule. Where the award recipient does not meet objectives, the report must include a statement of cause and a summary of corrective actions.

• Specific action(s) HHS and/or the Afghan MoPH or MOHE needs to undertake to alleviate obstacles to progress.

• Other pertinent information that will permit overview and evaluation of project operations.

Within 90 days following the end of each project period, the awardee must submit a final report that contains all required information and data to the MoPH, MOHE and HHS. At a minimum, the report will contain the following:

• A summary of the major activities supported under the cooperative agreement and the major accomplishments that resulted from activities to improve performance.

• An analysis of the project, based on the challenges described in the “Background” Section of the RFA performed prior to or during the project period, including a description of the specific objectives stated in the grant application and the accomplishments and failures that resulted from activities during the grant agreement period. The recipient should place emphasis on indicators and measures of operational efficiency and effectiveness.

III. Eligibility Information

1. Eligible Applicants

This is a single source, cooperative agreement with the Aga Khan Foundation (AKF), a non-denominational, international health, education and development agency operating in Afghanistan under the aegis of the Aga Khan Development Network (AKDN). The AKF is one of ten development agencies, institutions, and programs in the AKDN that work primarily in the poorest parts of Asia and Africa. The AKF strives to improve the health of vulnerable population groups, especially mothers and children, and promote health services development on the national and regional levels.

The U. S. Government remains committed to supporting efforts to improve the health status of women and children, while assisting in further developing Afghanistan's overall health-care infrastructure. This proposal builds upon the extensive network of the AKDN and leverages the established relationships between the AKDN and the Government of Afghanistan.

The AKDN has played a prominent role in the application of the Afghan government's Essential Package of Hospital Services (EPHS) and has been instrumental in its nationwide implementation. AKDN has also served as a key advisor to the Ministry of Health during the drafting of its National Policy on Human Resource Development for Health. Since 2002, the AKDN, through the AKF, has assisted in the construction and rehabilitation of Afghanistan's health-care infrastructure and contributed to the improvement of education and health services. Key achievements of the AKDN and AKF include the construction or rehabilitation of over 48 schools, two teacher-training colleges and 20 health facilities, the management of 24 health clinics and the establishment of 195 health posts.

AKDN's health-care activities have emphasized training for professionals at all tiers of the Afghan health-care system, from community health-care workers and laboratory technicians to nurses and physicians. Since 2003, the AKDN, under Aga Khan Health Services (AKHS), has managed the Bamyan District Hospital, the only referral health facility for the seven districts in the province and trained its staff in emergency midwifery and obstetric complications. AKDN has also operated Community Midwifery Education Training Schools in Bayman Town, Faizabad and Kabul to address a major need for qualified, local, female health professionals and provided training to over 217 physicians, 161 midwives, and 264 nurses through training and refresher training programs in Baghlan, Takhar, and Badakhshan, Afghanistan.

Aga Khan University (AKU), with multiple campuses including Kabul, Afghanistan and Karachi, Pakistan has served as the primary training institution for refresher courses and training programs for Afghan physicians, nurses and midwives and for postgraduate medical education for Afghan physicians enrolled in residency programs. In the international arena, AKU has assumed a dual role as both a standard-setting research institution and a disseminator of tested and replicable models and as such, has raised the bar for health-care in the developing world. In the Central Asian region, AKU has established itself as a major center for education, training and research in the health sciences and teacher education. Most significantly, AKU has also garnered a highly diverse faculty and student population in which at least 44 percent of AKU's faculty, many in senior posts and 50 percent of its students are female.

Established in 1983, the Aga Khan Medical College located at the Karachi campus, offers various undergraduate and postgraduate programs. The College's curricular objectives include clinical competence both in community settings and hospitals, as well as the assessment of health and prevention of disease in communities through the primary health-care programs that AKU monitors in a number of urban squatter settlements. The College has agreements with leading academic institutions, including Harvard University in the United States, McGill and McMaster Universities in Canada and Karolinska Institute in Sweden, which have contributed to faculty and curriculum development. Through these partnerships, AKU is able to offer higher training and research, specifically in areas where such opportunities are not currently available in Pakistan.

In 1993, the AKU Institute for Educational Development (AKU-IED) was established to focus Aga Kahn's efforts on the development of educational systems in the developing world. Through its network of Professional Development Centres (PDCs) in Pakistan, Central Asia, and East Africa, AKU-IED functions as an outreach center and training and support facility for professional teachers and education managers. The Institutes focus primarily on improving the performance of teachers and other stakeholders through professional development, ultimately leading to school improvement and offer a series of professional development programs for teachers and other educators, as well as graduate programs.

With funding from this cooperative agreement, AKF will be able to create a solid teaching hospital by utilizing the vast network of development agencies, institutions, and programs of the AKDN and building upon its previous educational and training efforts in Afghanistan. This effort will work toward developing an evidence-based and culturally appropriate Obstetrical/Gynecological residency program and continuing education program for practicing physicians. HHS, through this cooperative agreement, will augment the funding and services of the AKDN and AKF to foster equitable and high quality obstetrical and gynecological and infant care at RBH and promote the further development of Afghanistan's overall health-care infrastructure.

2. Cost Sharing or Matching

Although cost-sharing, matching funds, and cost participation are not a requirement of this agreement, if the applicant receives funding from other sources to underwrite the same or similar activities, or anticipate receiving such funding in the next 12 months, they must detail how the disparate streams of financing complement each other.

3. Other—(If Applicable)

N/A.

IV. Application and Submission Information.

1. Address To Request Application Kit

An application kit may be obtained by accessing Grants.gov at http://www.grants.gov or the eGrants system at http://GrantSolution.gov. To obtain a hard copy of the application kit, contact OPHS Office of Grant Management. Applications must be prepared using Form OPHS-1, which can be obtained at the websites noted above.

2. Content and Form of Application Submission

Application Materials

A separate budget page is required for each budget year. The applicant must submit with their proposals a line-item budget (SF 424A) with coinciding justification to support each of the budget years. These forms will represent the full project period of Federal assistance requested. HHS/OGHA will reject proposals submitted without a budget and justification for each budget year requested in the application.

The applicant must include in their application a Project Abstract, submitted on 3.5-inch floppy disk. The abstract must be typed, single-spaced, and not exceed two (2) pages. Reviewers and staff will refer frequently to the information contained in the abstract, and therefore it should contain substantive information about the proposed projects in summary form. A list of suggested keywords and a format sheet for your use in preparing the abstract will accompany the application packet.

The applicant must include a Project Narrative in their grant applications. Format requirements are the same as for the “Project Abstract” Section; margins should be one-inch at the top and one-inch at the bottom and both sides; and typeset must be no smaller than 12 cpi and unreduced. The applicant should type biographical sketches either on the appropriate form or on plain paper and they should not exceed two pages; list only publications directly relevant to this project.

Application Format Requirements

If an applicant is applying on paper, the entire application may not exceed 80 pages in length, including the abstract, project and budget narratives, face page, attachments, any appendices and letters of commitment and support. The applicant must number pages consecutively.

HHS/OGHA will deem non-compliant applications submitted electronically that exceed 80 pages when printed and will return them to the applicant without further consideration.

a. Number of Copies

If submitting in hard-copy, please submit one (1) original and two (2) unbound copies of the application. Please do not bind or staple the application. The application must be single sided.

b. Font

Please use an easily readable serif typeface, such as Times Roman, Courier, or CG Times. The applicant must submit the text and table portions of the application in not less than 12-point and 1.0 line spacing. HHS/OGHA will deem applications that do not adhere to the 12-point font requirement non-compliant.

c. Paper Size and Margins

For scanning purposes, please submit the application on 8½″ x 11″ white paper. Margins must be at least one inch at the top, bottom, left and right of the paper. Please left-align text.

d. Numbering

Please number the pages of the application sequentially from page one (face page) to the end of the application, including charts, figures, tables, and appendices.

e. Names

Please include the name of the applicant on each page.

f. Section Headings

Please put all section headings flush left in bold type.

Application Format

An application for funding must consist of the following documents in the following order:

i. Application Face Page

HHS/PHS Application Form OPHS-1, provided with the application package. Prepare this page according to instructions provided in the form itself.

DUNS Number

All applicant organizations must have a Data Universal Numbering System (DUNS) number to apply for a grant from the Federal Government. The DUNS number is a unique, nine-character identification number provided by the commercial company Dun and Bradstreet. There is no charge to obtain a DUNS number. Information about obtaining a DUNS number is available at the following Internet address: https://www.dnb.com/product/eupdate/requestOptions.html or by calling 1-866-705-5711. Please include the DUNS number next to the Office of Management and Budget (OMB) Approval Number on the application face page. HHS/OGHA will not review applications that do not have a DUNS number.

Additionally, the applicant organization must register with the Federal Government's Central Contractor Registry (CCR) to do electronic business with the Federal Government. Information about registering with the CCR is available at the following Internet address: http://www.hrsa.gov/grants/ccr.htm.

Finally, the applicant that applies electronically through Grants.gov must register with the Credential Provider for Grants.gov. Information about this requirement is available at the following Internet address: http://www.grants.gov/CredentialProvider.

An applicant that is applying electronically through the HHS/OPHS GrantSolutions System must register with the provider. Information about this requirement is available at the following Internet address: https://www.grantsolutions.gov/gs/login.do.

ii. Table of Contents

Provide a Table of Contents for the remainder of the application (including appendices), with page numbers.

iii. Application Checklist

Application Form HHS/OPHS-1, provided with the application package.

iv. Budget

Application Form HHS/OPHS-1, provided with the application package.

v. Budget Justification

The applicant must enter the amount of financial support (direct and indirect costs) they are requesting from the Federal granting agency for the first year on the Face Sheet of Application Form HHS/PHS 5161-1, Line 15a. The application should include funds for electronic-mail capability, unless access to the Internet is already available. The amount of financial support (direct and indirect costs) entered on the SF 424 is the amount an applicant is requesting from the Federal granting agency for the project year.

Personnel Costs: The applicant should explain their personnel costs by listing each staff member supported from Federal funds, name (if possible), position title, percent full-time equivalency, annual salary, and the exact amount requested.

Fringe Benefits: The applicant must list the components that comprise the fringe benefit rate, for example, health insurance, taxes, unemployment insurance, life insurance, retirement plan, tuition reimbursement. The fringe benefits should be directly proportional to that portion of personnel costs allocated for the project.

Travel: The applicant must list travel costs according to local and long distance travel. For local travel the applicant should outline the mileage rate, number of miles, reason for the travel and the staff member/consumers who will be completing the travel.

Equipment: The applicant must list equipment costs, and provide justification for the need of the equipment to carry out the program's goals. The applicant must provide an extensive justification and a detailed status of current equipment when they request funds for the purchase of computers and furniture items.

Supplies: The applicant must list the items the project will use. In this category, separate office supplies from medical and educational purchases. “Office supplies” could include paper, pencils, and the like; “medical supplies” are syringes, blood tubes, plastic gloves, etc., and “educational supplies” can be pamphlets and educational videotapes. The applicant must list these categories separately.

Subcontracts: To the extent possible, the applicant should standardize all subcontract budgets and justifications, and should present contract budgets by using the same object-class categories contained in the Standard Form 424A. The applicant must provide a clear explanation as to the purpose of each contract, how the organization estimated the costs, and the specific contract deliverables.

Other: The applicant must put all costs that do not fit into any other category into this category, and provide and explanation of each cost in this category.

vi. Staffing Plan and Personnel Requirements

The applicant must present a staffing plan, and provide a justification for the plan that includes education and experience qualifications and the rationale for the amount of time requested for each staff position. The applicant must include in Appendix B position descriptions that include the roles, responsibilities, and qualifications of proposed project staff. The applicant must include in Appendix C copies of biographical sketches for any key employed personnel assigned to work on the proposed project.

vii. Project Abstract

The applicant must provide a summary of the application. Because HHS/OHGA often distributes the abstract to provide information to the American public and the U.S. Congress, the applicant should prepare this so it is clear, accurate, concise, and without reference to other parts of the application. It must include a brief description of the proposed grant project, including the needs addressed, the proposed work, and the population group(s) served.

The applicant must place the following at the top of the abstract:

• Project Title;

• Applicant Name;

• Address;

• Contact Phone Numbers (Voice, Fax);

• E-Mail Address; and

• Web Site Address, if applicable.

The project abstract must be single-spaced and limited to two pages in length.

viii. Program Narrative

This section provides a comprehensive framework and description of all aspects of the proposed program. It should be succinct, self-explanatory and well-organized so reviewers can understand the proposed project.

The applicant should use the following section headers for the Narrative:

• Introduction

This section should briefly describe the purpose of the proposed project.

• Work Plan

The applicant should describe the activities or steps to achieve each of the activities proposed in the methodology section and use a time line that includes each activity and identifies responsible staff.

• Resolution of Challenges

The applicant should discuss likely challenges designing and implementing the activities described in the Work Plan, and approaches to resolve such challenges.

• Evaluation and Technical Support Capacity

The applicant should describe their current, relevant experience, skills, and knowledge, including individuals on staff, materials published, and previous work of a similar nature.

• Organizational Information

The applicant should provide information on their current mission and structure, scope of current activities, and an organizational chart, and describe how these all contribute to the ability of the organization to conduct the program requirements and meet program expectations.

ix. Appendices

The applicant must provide the following items to complete the content of their applications. Please note these are supplementary in nature, and are not a continuation of the project narrative. The applicant should label each appendix.

Appendix A: Tables, Charts, etc.

To give further details about the proposal.

Appendix B: Job Descriptions for Key Personnel

The applicant should keep each to one page in length as much as possible. Item 6 in the “Program Narrative” section of the HHS/PHS 5161-1 Form provides some guidance on items to include in a job description.

Appendix C: Biographical Sketches of Key Personnel

The applicant should include biographical sketches for persons who are occupying the key positions described in Appendix B, not to exceed two pages in length. In the event an applicant includes a biographical sketch for an identified individual not yet hired, it must include a letter of commitment from that person with the biographical sketch.

Appendix D: Letters of Agreement and/or Description(s) of Proposed/Existing Contracts

(Project specific). The applicant must provide any documents that describe working relationships between the applicant agency and other agencies and programs cited in the proposal. Documents that confirm actual or pending contractual agreements should clearly describe the roles of the subcontractors and any deliverable. Letters of Agreement must be dated.

Appendix E: Organizational Chart for the Project

The applicant must provide a one-page figure that depicts the organizational structure of the project, including subcontractors and other significant collaborators.

Appendix F: Other Relevant Documents

Include here any other documents relevant to the application, including letters of support. Letters of support must be dated.

3. Submission Dates and Times

To be considered for review, applications must be received by the Office of Public Health and Science, Office of Grants Management, by 5 p.m. Eastern Time on August 31, 2007. Applications will be considered as meeting the deadline if they are received on or before the deadline date. The application due date requirement in this announcement supersedes the instructions in the OPHS-1 form.

Application Submission

The Office of Public Health and Science (OPHS) provides multiple mechanisms for submission of applications, as described in the following sections. Applicants will receive notification via mail from the OPHS Office of Grants Management confirming the receipt of applications submitted using any of these mechanisms. Applications submitted to the OPHS Office of Grants Management after the deadlines described below will not be accepted for review. Applications which do not conform to the requirements of the grant announcement will not be accepted for review and will be returned to the applicant.

While applications are accepted in hard copy, the use of the electronic application submission capabilities provided is encouraged. Applications may only be submitted electronically via the electronic submission mechanisms specified below. Any applications submitted via any other means of electronic communication, including facsimile or electronic mail, will not be accepted for review.

Electronic grant application submissions must be submitted no later than 5 p.m. Eastern Time 90 days prior to your current budget period end date (refer to your most recent Notice of Grant Award box #7 for this information). All required hardcopy original signatures and mail-in items must be received by the OPHS Office of Grants Management no later than 5 p.m. Eastern Time on the next business day after the deadline date for your non-competing application.

Applications will not be considered valid until all electronic application components, hardcopy original signatures, and mail-in items are received by the OPHS Office of Grants Management according to the deadlines specified above. Application submissions that do not adhere to the due date requirements will be considered late and will be deemed ineligible.

Applicants are encouraged to initiate electronic applications early in the application development process, and to submit early on the due date or before. This will aid in addressing any problems with submissions prior to the application deadline.

Electronic Submissions

The electronic grants management system, GrantSolutions.gov, provides for applications to be submitted electronically. When submitting applications via the GrantSolutions system, applicants are required to submit a hard copy of the application face page (Standard Form 424) with the original signature of an individual authorized to act for the applicant agency and assume the obligations imposed by the terms and conditions of the grant award. If required, applicants will also need to submit a hard copy of the Standard Form LLL and/or certain Program related forms (e.g., Program Certifications) with the original signature of an individual authorized to act for the applicant agency. When submitting the required forms, do not send the entire application. Complete hard copy applications submitted after the electronic submission will not be considered for review.

Electronic applications submitted via the GrantSolutions system must contain all completed online forms required by the application kit, the Program Narrative, Budget Narrative and any appendices or exhibits. The applicant may identify specific mail-in items to be sent to the Office of Grants Management separate from the electronic submission; however these mail-in items must be entered on the GrantSolutions Application Checklist at the time of electronic submission, and must be received by the due date requirements specified above. Mail-in items may only include publications, resumes, or organizational documentation. When submitting the required forms, do not send the entire application. Complete hard copy applications submitted after the electronic submission will not be considered for review.

Upon completion of a successful electronic application submission, the GrantSolutions system will provide the applicant with a confirmation page indicating the date and time (Eastern Time) of the electronic application submission. This confirmation page will also provide a listing of all items that constitute the final application submission including all electronic application components, required hardcopy original signatures, and mail-in items, as well as the mailing address of the OPHS Office of Grants Management where all required hard copy materials must be submitted.

As items are received by the OPHS Office of Grants Management, the electronic application status will be updated to reflect the receipt of mail-in items. It is recommended that the applicant monitor the status of their application in the GrantSolutions system to ensure that all signatures and mail-in items are received.

Mailed or Hand-Delivered Hard Copy Applications

Applicants who submit applications in hard copy (via mail or hand-delivered) are required to submit an original and two copies of the application. The original application must be signed by an individual authorized to act for the applicant agency or organization and to assume for the organization the obligations imposed by the terms and conditions of the grant award.

Mailed or hand-delivered applications will be considered as meeting the deadline if they are received by the OPHS Office of Grant Management on or before 5 p.m. Eastern Time 90 days prior to your current budget period end date (refer to your most recent Notice of Grant Award box #7 for this information). The application deadline date requirement specified in this announcement supersedes the instructions in the OPHS-1. Applications that do not meet the deadline will be returned to the applicant unread.

4. Intergovernmental Review

This program is not subject to the review requirements of Executive Order 12372, Intergovernmental Review of Federal Programs.

5. Funding Restrictions

Allowability, allocability, reasonableness, and necessity of direct costs the applicant may charge appear in the following documents: OMB-21 (Institutes of Higher Education); OMB Circular A-122 (Nonprofit Organizations) and 45 CFR part 74, Appendix E (Hospitals). Copies of these circulars are available on the Internet at the following Internet address: http://www.whitehouse.gov/omb. No pre-award costs are allowed

6. Other Submission Requirements

N/A.

V. Application Review Information

1. Criteria

OGHA will screen the application for completeness and for responsiveness to the program guidance. Applicant should pay strict attention addressing these criteria, as they are the basis upon which the application will be judged. If the application is judged to be non-responsive or incomplete, it will be returned to the applicant without review.

If the application is complete and responsive to the guidance, it will be evaluated for scientific and technical merit by an appropriate peer review group specifically convened for this solicitation and in accordance with HHS policies and procedures. As part of the initial merit review, all applications will receive a written critique. The application will be discussed fully by the ad hoc peer review group and assigned a priority score for funding. The application will be assessed according the following criteria:

(1) Technical Approach (40 points):

• The applicant's presentation of a sound and practical technical approach for executing the requirements with adequate explanation, substantiation and justification for methods for handling the projected needs of the partner institution.

• The successful applicant must demonstrate a clear understanding of the scope and objectives of the cooperative agreement, recognition of potential difficulties that may arise in performing the work required, presentation of adequate solutions, and understanding of the close coordination necessary between the OGHA/HHS, Afghanistan Ministry of Public Health, U.S. Agency for International Development, and other organizations, such as the World Health Organization and United Nations Children's Fund.

• Applicant must submit a strategic plan that outlines the schedule of activities and expected products of the Group's work with benchmarks at months six and 12. The strategic plan should specifically address the expected progress of the Quality of Care program.

(2) Experience and Capabilities of the Organization (30 Points):

• The applicant should submit documented relevant experience of the organization in managing projects of similar complexity and scope of the activities.

• Clarity and appropriateness of lines of communication and authority for coordination and management of the project. Adequacy and feasibility of plans to ensure successful coordination among multiple-partner collaboration.

• Documented experience recruiting qualified medical personnel for projects of similar complexity and scope of activities.

(3) Personnel Qualifications and Experience (20 points):

• Project Leadership—For the technical and administrative leadership of the project requirements, the successful applicant must demonstrate documented training, expertise, relevant experiences, leadership/management skills, and availability of a suitable overall project manager and surrounding management structure to successfully plan and manage the project. The successful applicant will provide documented history of leadership in the establishment and management of training programs that involve training of health-care professionals in countries other than the United States. Expertise in maternal and child health-care and services including documented training, expertise, relevant experience, leadership skills, and maternal and child health specific medical expertise. Documented managerial ability to achieve delivery or performance requirements as demonstrated by the proposed use of management and other personnel resources and to successfully manage the project, including subcontractor and/or consultant efforts, if applicable, as evidence by the management plan and demonstrated by previous relevant experience.

• Partner Institutions and Other Personnel—The applicant should provide documented evidence of availability, training, qualifications, expertise, relevant experience, education and competence of the scientific, clinical, analytical, technical and administrative staff and any other proposed personnel (including partner institutions, subcontractors and consultants), to perform the requirements of the work activities as evidenced by resumes, endorsements and explanations of previous efforts.

• Staffing Plan—The applicant should submit a staffing plan for the conduct of the project, including the appropriateness of the time commitment of all staff and partner institutions, the clarity and appropriateness of assigned roles, lines of authority. The applicant should also provide an organizational chart for each partner institution named in the application showing relationships among the key personnel.

• Administrative and Organizational Framework—Adequacy of the administrative and organizational framework, with lines of authority and responsibility clearly demonstrated, and adequacy of the project plan, with proposed time schedule for achieving objectives and maintaining quality control over the implementation and operation of the project. Adequacy of back-up staffing and the evidence that they will be able to function as a team. The framework should identify the institution that will assume legal and financial responsibility and accountability for the use and disposition of funds awarded on the basis of this RFA.

(4) Facilities and Resources (10 Points):

The applicant must document the availability and adequacy of facilities, equipment and resources necessary to carry out the activities specified under the “Program Requirements” Section of this announcement.

2. Review and Selection Process

The application will be reviewed, by a panel of peer reviewers. Each of the above criteria will be addressed and considered by the reviewers in assigning the overall score. The final award will be made by the Deputy Director, Asia and Pacific Division of the Office Global Health Affairs on the basis of score, program relevance and, availability of funds.

VI. Award Administration Information

1. Award Notices

OGHA/HHS does not release information about individual applications during the review process until final funding decisions have been made. When a decision has been made, the applicant will be notified by letter regarding the outcome of its application. The official document notifying an applicant that an application has been approved and funded is the Notice of Award, which specifies to the awardee the amount of money awarded, the purpose of the agreement, the terms and conditions of the agreement, and the amount of funding, if any, to be contributed by the awardee to the project costs.

2. Administrative and National Policy Requirements

The regulations set out at 45 CFR parts 74 and 92 are the Department of Health and Human Services (HHS) rules and requirements that govern the administration of grants. Part 74 is applicable to all recipients except those covered by part 92, which governs awards to state and local governments. The applicant funded under this announcement must be aware of and comply with these regulations. The CFR volume that includes parts 74 and 92 may be downloaded from http://www.access.gpo.gov/nara/cfr/waisidx_03/45cfrv1_03.html.

3. Reporting

The project is required to have an evaluation plan, consistent with the scope of the proposed project and funding level that conforms to the project's stated goals and objectives. The evaluation plan should include both a process evaluation to track the implementation of project activities and an outcome evaluation to measure changes in knowledge and skills that can be attributed to the project. Project funds may be used to support evaluation activities.

In addition to conducting their own evaluation of projects, the successful applicant must be prepared to participate in an external evaluation, to be supported by HHS/OGHA and conducted by an independent entity, to assess efficiency and effectiveness for the project funded under this announcement.

Within 30 days following the end of each quarter, a performance report no more than ten pages in length must be submitted to OGHA/HHS. A sample monthly performance report will be provided at the time of notification of award. At a minimum, monthly performance reports should include:

• Concise summary of the most significant achievements and problems encountered during the reporting period, e.g. number of training courses held and number of trainees.

• A comparison of work progress with objectives established for the quarter using the grantee's implementation schedule, and where such objectives were not met, a statement of why they were not met.

• Specific action(s) that the grantee would like HHS/OGHA to undertake to alleviate a problem.

• Other pertinent information that will permit monitoring and overview of project operations.

• A quarterly financial report describing the current financial status of the funds used under this award. The awardee and OGHA will agree at the time of award for the format of this portion of the report.

Within 90 days following the end of the project period a final report containing information and data of interest to the Department of Health and Human Services, Congress, and other countries must be submitted to HHS/OGHA. The specifics as to the format and content of the final report and the summary will be sent to the successful applicant. At minimum, the report should contain:

• A summary of the major activities supported under the agreement and the major accomplishments resulting from activities to improve mortality in partner country.

• An analysis of the project based on the problem(s) described in the application and needs assessments, performed prior to or during the project period, including a description of the specific objectives stated in the grant application and the accomplishments and failures resulting from activities during the grant period.

Quarterly performance reports and annual reports may be submitted to: Mr. Dewayne Wynn, Grants Management Specialist, Office of Grants Management, OPHS, HHS1101 Wootton Parkway, Suite 550, Rockville, MD 20852, phone (240) 453-8822. A Financial Status Report (FSR) SF-269 is due 90 days after the close of each 12-month budget period and submitted to OPHS-Office of Grants Management.

VII. Agency Contacts

For assistance on administrative and budgetary requirements, please contact: Mr. DeWayne Wynn, Grants Management Specialist, Office of Grants Management, OPHS, HHS, 1101 Wootton Parkway, Suite 550, Rockville, MD 20852, phone (240) 453-8822.

For assistance with questions regarding program requirements, please contact: Dr. Christopher Hickey, Department of Health and Human Services, Office of the Secretary, Office of Global Health Affairs, Asia-Pacific Division, 5600 Fishers Lane, Suite 18-101, Rockville, MD 20857, Phone Number: 301-443-1410.

VIII. Tips for Writing a Strong Application

Include DUNS Number

You must include a DUNS Number to have your application reviewed. An application will not be reviewed without a DUNS number. To obtain a DUNS number, access http://www.dunandbradstreet.com or call 1-866-705-5711. Please include the DUNS number next to the OMB Approval Number on the application face page.

Keep Your Audience in Mind

Reviewers will use only the information contained in the application to assess the application. Be sure the application and responses to the program requirements and expectations are complete and clearly written. Do not assume that reviewers are familiar with the applicant organization. Keep the review criteria in mind when writing the application.

Start Preparing the Application Early

Allow plenty of time to gather required information from various sources.

Follow the Instructions in this Guidance Carefully

Place all information in the order requested in the guidance. If the information is not placed in the requested order, you may receive a lower score.

Be Brief, Concise, and Clear

Make your points understandable. Provide accurate and honest information, including candid accounts of problems and realistic plans to address them. If any required information or data is omitted, explain why. Make sure the information provided in each table, chart, attachment, etc., is consistent with the proposal narrative and information in other tables.

Be Organized and Logical

Many applications fail to receive a high score because the reviewers cannot follow the thought process of the applicant or because parts of the application do not fit together.

Be Careful in the Use of Appendices

Do not use the appendices for information that is required in the body of the application. Be sure to cross-reference all tables and attachments located in the appendices to the appropriate text in the application.

Carefully Proofread the Application

Misspellings and grammatical errors will impede reviewers in understanding the application. Be sure pages are numbered (including appendices) and that page limits are followed. Limit the use of abbreviations and acronyms, and define each one at its first use and periodically throughout application.

Dated: August 10, 2007.
Mary Lou Valdez,
Deputy Director for Policy, Office of Global Health Affairs.

[FR Doc. E7-16114 Filed 8-15-07; 8:45 am]

BILLING CODE 4150-38-P